DEPARTMENT OF ENERGY

Federal Energy Regulatory Commission

[Docket No. IC22-22-000]

Commission Information Collection Activities (FERC-539) Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-539 (Gas Pipeline Certificates: Import & Export Related Applications), which will be submitted to the Office of Management and Budget (OMB).

DATES: Comments on the collection of information are due September 30, 2022.

ADDRESSES: Send written comments on FERC-539 (IC22-22-000) to the Commission. You may submit copies of your comments by one of the following methods:

Electronic filing through https://www.ferc.gov, is preferred.

• Electronic Filing: Documents must be filed in acceptable native applications and print-to-PDF, but not in scanned or picture format.

• For those unable to file electronically, comments may be filed by USPS mail or by hand (including courier) delivery.

○ Mail via U.S. Postal Service Only Addressed to: Federal Energy Regulatory Commission, Secretary of the Commission, 888 First Street NE, Washington, DC 20426.

○ Hand (Including Courier) Delivery to: Federal Energy Regulatory Commission, Office of the Secretary, 12225 Wilkins Avenue, Rockville, MD 20852.

Instructions: FERC submissions must be formatted and filed in accordance with submission guidelines at: https://www.ferc.gov. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Ellen Brown may be reached by email at DataClearance@FERC.gov, telephone at (202) 502-8663.

SUPPLEMENTARY INFORMATION:

Title: FERC-539 (Gas Pipeline Certificates: Import & Export Related Applications).

OMB Control No.: 1902-0062.

Type of Request: Three-year extension of the FERC-539 with no changes to the current reporting requirements.

Abstract: The purpose of FERC-539 is to implement information collections pursuant to Section 3 of the Natural Gas Act (NGA).¹ This statute provides, in part, that “. . . no person shall export any natural gas from the United States to a foreign country or import any natural gas from a foreign country without first having secured an order from the Commission authorizing it to do so.” ² This statute applies not only to natural gas imported and/or exported via pipeline but also to any import and/or export of liquefied natural gas via a liquefied natural gas terminal. The 1992 amendments to Section 3 of the NGA concern importation or exportation from/to a nation which has a free trade agreement with the United States, and requires that such importation or exportation: (1) Shall be deemed to be a “first sale”, i.e., not a sale for a resale, and (2) Shall be deemed to be consistent with the public interest, and applications for such importation or exportation shall be granted without modification or delay.

¹ 15 U.S.C. 717-717w.

² 15 U.S.C. 717b.

Estimate of Annual Burden: ³ The Commission estimates the annual public reporting burden for the information collection as:

³ Burden is defined as the total time, effort, or financial resources expended by persons to generate, maintain, retain, or disclose or provide information to or for a federal agency. See 5 CFR 1320 for additional information on the definition of information collection burden.

FERC-539, Gas Pipeline Certificates: Import & Export Related Applications
Number of respondents | Number of responses per respondent | Total number of responses | Average burden hours & average cost ⁴ per response ($) | Total annual burden hours & total annual cost ($) | Cost per respondent ($)
(1) | (2) | (1) * (2) = (3) | (4) | (3) * (4) = (5) | (5) ÷ (1) = (6)
6 | 2 | 12 | 15 hours; $1,305 | 180 hours; $28,800 | $2,610

Comments: Comments are invited on: (1) whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

⁴ The Commission staff estimates that industry is similarly situated in terms of hourly cost (for wages plus benefits). Based on the Commission's FY (Fiscal Year) 2021 average cost (for wages plus benefits), $87.00/hour is used.

Dated: July 26, 2022.
Debbie-Anne A. Reese,
Deputy Secretary.

[FR Doc. 2022-16424 Filed 7-29-22; 8:45 am]

BILLING CODE 6717-01-P